DEPARTMENT OF THE TREASURY

United States Mint

Pricing for 2012 Infantry Soldier Silver Dollar and 2012 Star-Spangled Banner Commemorative Coin Products

AGENCY: United States Mint, Department of the Treasury.

ACTION: Notice.

SUMMARY: The United States Mint is announcing adjusted pricing for the 2012 Infantry Soldier Silver Dollar and 2012 Star-Spangled Banner Commemorative Coin products:

Product | Introductory price | Regular price
Infantry Soldier Proof Silver Dollar | $49.95 | $54.95
Infantry Soldier Uncirculated Silver Dollar | 44.95 | 49.95
Infantry Soldier Silver Dollar Special Set | N/A | 51.95
Star-Spangled Banner Proof Silver Dollar | 49.95 | 54.95
Star-Spangled Banner Uncirculated Silver Dollar | 44.95 | 49.95
Star-Spangled Banner Bicentennial Silver Dollar Set | N/A | 53.95

The introductory pricing period for the 2012 Infantry Soldier Silver Dollar begins February 16, 2012, and ends March 19, 2012. The introductory pricing period for the 2012 Star-Spangled Banner Commemorative Coin Program begins March 5, 2012, and ends April 5, 2012.

FOR FURTHER INFORMATION CONTACT: B. B. Craig, Associate Director for Sales and Marketing; United States Mint; 801 9th Street NW., Washington, DC 20220; or call (202) 354-7500.

Authority: Public Law 110-357, sec. 5a; Public Law 111-232, sec. 6a; 31 U.S.C. 5111 & 9701.

Dated: February 3, 2012.
Richard A. Peterson,
Deputy Director, United States Mint.

[FR Doc. 2012-2981 Filed 2-8-12; 8:45 am]

BILLING CODE P